DEPARTMENT OF HEALTH AND HUMAN SERVICES

Health Resources and Services Administration

Agency Information Collection Activities: Submission to OMB for Review and Approval; Public Comment Request; Rural Health Network Development Program Performance Improvement Measurement System, OMB No. 0906-0010-Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than December 29, 2023.

ADDRESSES: Written comments and recommendations for the proposed information collection should be sent within 30 days of publication of this notice to www.reginfo.gov/public/do/PRAMain. Find this information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Rural Health Network Development Program Performance Improvement Measurement System, OMB No. 0906-0010-Revision.

Abstract: The Rural Health Network Development (RHND) program is authorized under section 330A(f) of the Public Health Service Act (42 U.S.C. 254c(f)). The purpose of this program is to support integrated health care networks that collaborate to achieve efficiencies; expand access to, coordinate, and improve the quality of basic health care services and associated health outcomes; and strengthen the rural health care system as a whole. The program supports networks as they address gaps in service, enhance systems of care, and expand capacity of the local health care system.

RHND-funded programs promote population health management and the transition towards value-based care through diverse network participants that include traditional and nontraditional network partners. Evidence of program impact demonstrated by outcome data and program sustainability are integral components of the program. This is a 4-year competitive program for networks composed of at least three participants that are existing health care providers. At least 66 percent of network participants must be located in a HRSA-designated rural area.

HRSA currently collects information about RHND awards using an OMB-approved set of performance measures and seeks to revise that approved collection. The proposed revisions are being implemented to better gather award recipient data in response to previously accumulated award recipient feedback, peer-reviewed research, and information gathered from the previously approved RHND measures.

A 60-day notice was published in the Federal Register on July 20, 2023, 88 FR 46800-46801. There was one public comment. No changes were made to the information collection since the comment was outside the scope of this ICR.

Need and Proposed Use of the Information: This program needs measures that will enable HRSA to provide aggregate program data required by Congress under the Government Performance and Results Act of 1993. These measures cover the principal topic areas of interest to HRSA, including: (1) access to care, (2) population demographics, (3) staffing, (4) consortium/network, (5) sustainability, and (6) project specific domains. All measures will evaluate HRSA's progress toward achieving its goals.

The proposed changes include additional components under questions surrounding the network's benefits and funding strategies, as well as the types of participant organizations. Questions surrounding Health Information Technology and Telehealth have been modified to reflect an updated telehealth definition based on renewed knowledge on the use of both Health Information Technology and Telehealth, and to improve understanding of how these important technologies are affecting HRSA award recipients. The Demographics and Services section now includes a question requesting grantees to identify which counties they have served during the project. Finally, revised National Quality Forum and Centers for Medicare & Medicaid Services measures were included to allow uniform collection efforts throughout the HRSA Federal Office of Rural Health Policy.

The total number of responses has remained at 44 since the previous ICR. While the new RHND grant cycle maintained the same number of award recipients and number of respondents, in consideration of the new cohort of awardees, HRSA has increased the estimated average burden per response. The increase in burden is largely due to the amount of time it takes to build systems to capture and report data at the start of a new project. Larger networks or consortiums with multiple partners and programs across different organizations also reported higher burdens due to the wait time in between requests.

Likely Respondents: Respondents will be award recipients of the Rural Health Network Development Program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Performance Improvement and Measurement System Database | 44 | 1 | 44 | 48.8 | 2,147.2
Total | 44 | 1 | 44 | 48.8 | 2,147.2

Maria G. Button,
Director, Executive Secretariat.

[FR Doc. 2023-26249 Filed 11-28-23; 8:45 am]

BILLING CODE 4165-15-P